DEPARTMENT OF LABOR

Employment and Training Administration

[TA-W-63,052]

Chrysler LLC, St. Louis North Assembly Plant, Including On-Site Leased Workers From Haas TCM, Inc., Logistics Services, Inc. Diversified Contract Service, Inc. #639, and Logistics Management Services, Inc. Fenton, MO; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on April 14, 2008, applicable to workers of Chrysler LLC, St. Louis North Assembly Plant, Fenton, Missouri. The notice was published in the Federal Register on May 2, 2008 (73 FR 24317).

The certification was subsequently amended on November 18, 2008 to include on-site leased workers from HAAS TCM, amended on December 9, 2008 to include on-site leased workers from Logistics Services, Inc., and amended on October 30, 2009 to include on-site leased workers from Diversified Contract Service, Inc., #639.

Based on information provided by a representative of the State of Missouri Department of Economic Development, Division of Workforce Development, in a Trade Adjustment Assistance petition (TA-W-72,679) that workers of Logistics Management Services, Inc. worked on-site at the Chrysler LLC, Fenton, Missouri plant (Logistics Management Services, Inc. workers “sequenced the Dodge Ram pickup truck frames to be the first item loaded onto the assembly line”) and that the workers' schedules were “under the direct control of the production scheduling department” at the North Assembly Plant, the Department reviewed the certification for workers of the subject firm.

Based on the new information provided by the State of Missouri, the Department is amending this certification to include workers leased from Logistics Management Services, Inc. working on-site at the Fenton, Missouri location of Chrysler LLC.

The intent of the Department's certification is to include all workers employed at Chrysler LLC, St. Louis North Assembly Plant, Fenton, Missouri who were adversely affected by increased imports of Dodge Ram full-sized pickup trucks.

The amended notice applicable to TA-W-63,052 is hereby issued as follows:

All workers of Chrysler LLC, St. Louis North Assembly Plant, including on-site leased workers from HAAS TCM, Inc., Logistics Services, Inc., Diversified Contract Service, Inc., #639, and Logistics Management Services, Inc., Fenton, Missouri, who became totally or partially separated from employment on or after March 18, 2007, through April 14, 2010, are eligible to apply for adjustment assistance under Section 223 of the Trade Act of 1974, and are also eligible to apply for alternative trade adjustment assistance under Section 246 of the Trade Act of 1974.

Signed at Washington, DC, this 31st day of March, 2010.
Del Min Amy Chen,
Certifying Officer, Division of Trade Adjustment Assistance.

[FR Doc. 2010-8869 Filed 4-16-10; 8:45 am]

BILLING CODE 4510-FN-P